INTERNATIONAL TRADE COMMISSION

[Investigation No. 731-TA-1472 (Final)]

Difluoromethane (R-32) From China

Determination

On the basis of the record ¹ developed in the subject investigation, the United States International Trade Commission (“Commission”) determines, pursuant to the Tariff Act of 1930 (“the Act”), that an industry in the United States is materially injured by reason of imports of difluoromethane (R-32) from China, provided for in subheadings 2903.39.20 and 3824.78.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 86 FR 5136 (January 19, 2021).

Background

The Commission instituted this investigation effective January 23, 2020, following receipt of a petition filed with the Commission and Commerce by Arkema, Inc., King of Prussia, Pennsylvania. The Commission scheduled the final phase of the investigation following notification of a preliminary determination by Commerce that imports of R-32 from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of September 9, 2020 (85 FR 55688). Subsequently, the Commission cancelled its previously scheduled hearing following the withdrawal of petitioners' request to appear at the hearing (86 FR 6670, January 22, 2021).

The Commission made this determination pursuant to § 735(b) of the Act (19 U.S.C. 1673d(b)). It completed and filed its determination in this investigation on March 2, 2021. The views of the Commission are contained in USITC Publication 5165 (March 2021), entitled Difluoromethane (R-32) from China: Investigation No. 731-TA-1472 (Final).

By order of the Commission.
Issued: March 2, 2021.
Lisa Barton,
Secretary to the Commission.

[FR Doc. 2021-04696 Filed 3-5-21; 8:45 am]

BILLING CODE 7020-02-P